DEPARTMENT OF HOMELAND SECURITY

[Docket No. USCIS-2020-0014]

Privacy Act of 1974; System of Records

AGENCY: Department of Homeland Security, U.S. Citizenship and Immigration Services.

ACTION: Notice of modified system of records.

SUMMARY: In accordance with the Privacy Act of 1974, the Department of Homeland Security (DHS) proposes to modify and reissue a current DHS system of records titled, “DHS/U.S. Citizenship and Immigration Services (USCIS)-004 Systematic Alien Verification for Entitlements (SAVE) Program System of Records.” This system of records allows DHS/USCIS to collect and maintain records on applicants for public benefits, licenses, grants, governmental credentials, or other statutorily authorized purposes to operate the fee-based SAVE. SAVE allows users agencies to confirm immigration and naturalized and certain derived citizen status information, in order for the user agencies to make decisions related to: Determine eligibility for a Federal, state, tribal, or local public benefit; issue a license or grant; issue a government credential; conduct a background investigation; or for any other lawful purpose within the user agency's jurisdiction. DHS/USCIS is updating this system of records notice to include updates and modifications to the authority for maintenance of the system, the purpose of the system, categories of individuals, categories of records, record source categories, routine uses, and contesting records procedures to better reflect how USCIS operates SAVE and data sharing efforts. Additionally, this notice includes non-substantive changes to simplify the formatting and text of the previously published notice. This modified system will be included in DHS's inventory of record systems.

DATES: Submit comments on or before June 26, 2020. This modified system will be effective upon publication. New or modified routine uses will be effective June 26, 2020.

ADDRESSES: You may submit comments, identified by docket number USCIS-2020-0014 by one of the following methods:

• Federal e-Rulemaking Portal: http://www.regulations.gov. Follow the instructions for submitting comments.

• Fax: 202-343-4010.

• Mail: Constantina Kozanas, Chief Privacy Officer, Privacy Office, Department of Homeland Security, Washington, DC 20528-0655.

Instructions: All submissions received must include the agency name and docket number USCIS-2020-0014. All comments received will be posted without change to http://www.regulations.gov, including any personal information provided.

Docket: For access to the docket to read background documents or comments received, go to http://www.regulations.gov.

FOR FURTHER INFORMATION CONTACT: For general questions, please contact: Donald K. Hawkins, (202) 272-8030, USCIS.PrivacyCompliance@uscis.dhs.gov, Privacy Officer, U.S. Citizenship and Immigration Services, 20 Massachusetts Avenue NW, Washington, DC 20529. For privacy questions, please contact: Constantina Kozanas, (202) 343-1717, Privacy@hq.dhs.gov, Chief Privacy Officer, Privacy Office, Department of Homeland Security, Washington, DC 20528-0655.

SUPPLEMENTARY INFORMATION:

I. Background

In accordance with the Privacy Act of 1974, 5 U.S.C. 552a, the Department of Homeland Security (DHS), U.S. Citizenship and Immigration Services (USCIS) proposes to modify and reissue a current DHS system of records titled, “DHS/USCIS-004 Systematic Alien Verification for Entitlements Program System of Records.”

The Systematic Alien Verification for Entitlements (SAVE) Program is a fee-based service designed to assist Federal, state, tribal, and local government agencies, benefit-granting agencies, private entities, institutions, and licensing bureaus authorized by law in determining citizenship and immigration status for the purpose of granting benefits, licenses, and other lawful purposes. Uses of SAVE may include verification of citizenship and immigration status (for naturalized and certain derived citizens) when issuing Social Security benefits, public health care, Supplemental Nutrition Assistance Program (SNAP) benefits, Temporary Assistance for Needy Families (TANF), Medicaid, Children's Health Insurance Program (CHIP), conducting background investigations, armed forces recruitment, REAL ID compliance, or any other purpose authorized by law. SAVE provides citizenship and immigration status to the extent that such confirmation is necessary to enable Federal, state, tribal, or local government agencies to make decisions related to: (1) Determining eligibility for a Federal, state, tribal, or local public benefit; (2) issuing a license or grant; (3) issuing a government credential; (4) conducting a background investigation; or (5) any other lawful purpose. SAVE does not determine an applicant's eligibility for a specific benefit or license; only the benefit-granting agency can make that determination.

A typical SAVE verification involves a registered Federal, state, tribal, or local government benefit or license granting agency verifying the citizenship and immigration status of an immigrant or non-immigrant. The initial SAVE response is derived from information contained in a U.S. government-issued document, such as a Permanent Resident Card (often referred to as a Green Card) or Employment Authorization Document. Before a SAVE user agency can submit a query, the user agency must collect certain information from the benefit or license applicant's immigration-related document. The verification process is document driven and requires the document's numeric identifier (e.g., Alien Number (A-Number)). The document presented by the individual determines the verification process.

When a user agency submits a case, SAVE queries various DHS-accessed databases for matching records. These databases consist of case management systems used for adjudicating immigration benefits. If SAVE locates a record pertaining to the applicant in any of these DHS databases, SAVE displays that data. The data displayed by SAVE depends on the user agency's authority to use SAVE and the type of benefit provided by the user agency. If SAVE is unable to find a record pertaining to the applicant, it will request additional verification. The user agency may initiate the additional verification procedure, which entails in-depth research in available records by USCIS Status Verifiers Operations Branch to confirm the applicant's citizenship and immigration status.

DHS/USCIS is publishing this modified system of records notice to make several changes for transparency and to describe new initiatives.

Although SAVE provides citizenship and immigration status information to approved and configured user agencies, SAVE currently does not collect benefit determination information. Where SAVE provides immigrant sponsorship information to user agencies for sponsor deeming and agency reimbursement processes governed by Section 213A of the Immigration and Nationality Act (INA), 8 U.S.C. 1183a, and implementing regulations at 8 CFR part 213a, SAVE does not currently prompt a response from those agencies as to their use of that information in determining the benefit.

On May 23, 2019, President Trump issued a Presidential Memorandum (PM), Memorandum on Enforcing the Legal Responsibilities of Sponsors of Aliens, which placed a renewed focus on adequately enforcing reimbursement and deeming requirements. The PM details requirements related to data collection when determining eligibility for certain sponsored immigrants who seek Federal means-tested public benefits, and directs Federal agencies to take steps necessary to ensure compliance with requirements under the INA and other applicable Federal law. As such, SAVE is amending its processes so if sponsorship information is provided to the benefit-granting agency, SAVE will request to receive the benefit-granting agency's final adjudication determination of the Federal means-tested public benefit. DHS/USCIS is collecting information regarding actions that agencies adjudicating Federal means-tested public benefits take to deem sponsor income as part of applicant income for purposes of Federal means-tested benefits eligibility ¹ and to seek reimbursement from sponsors for the value of benefits provided to sponsored applicants. This information will provide the Federal Government with greater visibility into whether and how benefit-granting agencies use the sponsor and household member information that SAVE provides for the deeming and reimbursement processes.

¹ Under Section 421 of the Personal Responsibility and Work Opportunity Reconciliation Act of 1996 (8 U.S.C. 1631), agencies adjudicating Federal means-tested public benefits must consider (“deem”) the income and assets of a qualified sponsor who has completed a Form I-864 or Form I-864EZ, Affidavit of Support (collectively referred to herein as a “Form I-864”), or a qualified household member who has completed a Form I-864A, Contract Between Sponsor and Household Member, as available to the sponsored benefit applicant in determining whether he or she is eligible for certain Federal means-tested public benefits.

With this information, DHS/USCIS plans to compile and make reports available to Federal means-tested public benefit agencies (i.e., Social Security Administration, Department of Health and Human Services (HHS)—Centers for Medicare and Medicaid Services, HHS—Administration for Children and Families, and U.S. Department of Agriculture—Food and Nutrition Service) that perform oversight, monitoring, and compliance activities regarding Federal deeming and reimbursement rules. These reports will consist of general statistics in addition to case-specific information, so that Federal means-tested public benefit oversight and administrative agencies can see individual cases that did not complete sponsor deeming and/or those cases in which the benefit was not provided due to deeming. These reports will also be made available to the Department of Justice and the Department of Treasury, as necessary and authorized by law, and in coordination with the Federal means-tested public benefit agencies for reimbursement activity. DHS/USCIS will further provide access to relevant reports to approved adjudicating SAVE user agencies to assist them in managing their SAVE cases and monitoring their own compliance with SAVE program rules and the Federal deeming and reimbursement rules.

As part of this change, DHS/USCIS is updating this system of records (SORN) to cite the relevant legal authority to collect benefit determination information. DHS/USCIS is also adding new categories of records collected from benefit-granting agencies relating to actions that agencies adjudicating Federal means-tested public benefits take to deem sponsor income as part of applicant income for purposes of Federal means-tested benefits eligibility and to seek reimbursement from sponsors for the value of benefits provided to sponsored applicants. This includes whether the benefit-granting agency approved or denied the application for the means-tested public benefit; if the benefit-granting agency denied the application, whether the denial was based upon the information that SAVE provided in its response to the citizenship and immigration status verification request from the benefit-granting agency; whether the benefit-granting agency deemed sponsor/household member income and, if not, the exception or reason for not doing so; whether the benefit-granting agency sent the sponsor a reimbursement request letter; whether the sponsor complied with his or her reimbursement obligation; and whether the benefit-granting agency conducted a collection action if the sponsor did not comply with his or her reimbursement obligation. DHS/USCIS is also adding Routine Use J for disclosure to a Federal, state, tribal, or local government agency that oversees or administers Federal means-tested public benefits for purposes of seeking reimbursement from sponsors for the value of benefits provided to sponsored applicants, as well as reporting on overall sponsor deeming and agency reimbursement efforts to appropriate administrative and oversight agencies.

DHS/USCIS is also expanding the purpose of this system to include USCIS bond management processes. Under section 213 of the Immigration and Nationality Act, 8 U.S.C. 1183, the Secretary of Homeland Security may admit an individual to the United States upon posting a suitable and proper bond. The individual may breach the bond conditions if they receive certain public benefits, as defined in 8 CFR 212.21(b), after adjustment of status to that of a lawful permanent resident, and until the bond is cancelled under 8 CFR 213.1(g). For purposes of managing this bond process, DHS/USCIS may access the Verification Information System (VIS) to review whether USCIS bond submitters may have applied for and received public benefits, and to inform potential inquiries related to the receipt of those public benefits.

DHS/USCIS is also modifying the category of individuals covered under this SORN to reflect that the system covers individuals who have filed, for themselves or on the behalf of others, applications or other requests for Federal, state, local, or tribal licenses or benefits; individuals who have been granted naturalized or derived U.S. citizenship; individuals who have applied for or received other immigration benefits pursuant to 8 U.S.C. 1103 et seq. or other applicable law; individuals subject to certain background investigations; individuals accessing SAVE Case Check; users and administrators who access the system to facilitate citizenship and immigration status verification; and other individuals whose information is verified with SAVE pursuant to a SAVE Memorandum of Agreement or Computer Matching Agreement. DHS/USCIS is also clarifying that the categories of individuals covered by the system include sponsors that have signed either a Form I-864, Affidavit of Support Under Section 213A of the Act, Form I-864EZ, Affidavit of Support Under Section 213A of the Act, or household members that have signed a Form I-864A, Contract Between Sponsor and Household Member. The previous SORN only covered the I-864 and not the I-864EZ or I-864A.

DHS/USCIS is also expanding the categories of records to clarify the data elements that USCIS collects from the applicant by the benefit-granting agency to facilitate citizenship and immigration status verification, from the benefit-granting agency users who access the system to facilitate citizenship and immigration status verification, and the individual information that may be used by SAVE to verify citizenship and immigration status and provide a SAVE response.

DHS/USCIS is updating the record source categories to reflect information collected from USCIS, DHS, and other Federal agency systems of records.

DHS/USCIS is also modifying the routine use section of this SORN, including updating Routine Use E and adding Routine Use F to comply with requirements set forth by Office of Management and Budget (OMB) Memorandum M-17-12, “Preparing for and Responding to a Breach of Personally Identifiable Information,” (Jan. 3, 2017).

DHS/USCIS is updating the contesting record procedures to remove references to InfoPass, which has been phased out. Additionally, this notice includes non-substantive changes, including re-lettering routine uses, to simplify the formatting and text of the previously published notice.

Consistent with DHS's information sharing mission, information stored in DHS/USCIS-004 Systematic Alien Verification for Entitlements Program System of Records may be shared with other DHS Components that have a need to know the information to carry out their national security, law enforcement, immigration, intelligence, or other homeland security functions. In addition, DHS/USCIS may share information with appropriate Federal, state, local, tribal, territorial, foreign, or international government agencies consistent with the routine uses set forth in this system of records notice.

This modified system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, and similarly, the Judicial Redress Act (JRA) provides covered persons with a statutory right to make requests for access and amendment to covered records, as defined by the JRA, along with judicial review for denials of such requests. In addition, the JRA prohibits disclosures of covered records, except as otherwise permitted by the Privacy Act.

Below is the description of the DHS/USCIS-004 Systematic Alien Verification for Entitlements Program System of Records.

In accordance with 5 U.S.C. 552a(r), DHS has provided a report of this system of records to the Office of Management and Budget and to Congress.

SYSTEM NAME AND NUMBER:

Department of Homeland Security (DHS)/U.S. Citizenship and Immigration Services (USCIS)-004 Systematic Alien Verification for Entitlements Program System of Records.

SECURITY CLASSIFICATION:

Unclassified.

SYSTEM LOCATION:

Records are maintained at USCIS Headquarters in Washington, DC, and at DHS/USCIS field offices. Electronic records are stored in the Verification Information System (VIS).

SYSTEM MANAGER(S):

Chief, Verification Division, SAVE.help@uscis.dhs.gov, U.S. Citizenship and Immigration Services, Department of Homeland Security, 131 M Street NE, Suite 200, Mail Stop 2620, Washington, DC 20529.

AUTHORITY FOR MAINTENANCE OF THE SYSTEM:

Authority for having a system for verification of citizenship and immigration status is found in Immigration and Nationality Act, Public Law 82-414, 66 Stat. 163 (1952), as amended, Immigration Reform and Control Act, Public Law 99-603, 100 Stat. 3359 (1986); Personal Responsibility and Work Opportunity Reconciliation Act, Public Law 104-193, 110 Stat. 2105 (1996); Illegal Immigration Reform and Immigrant Responsibility Act, Public Law 104-208, 110 Stat. 3009 (1997); the REAL ID Act of 2005, Public Law 109-13, 119 Stat. 231 (2005); Patient Protection and Affordable Care Act, Public Law 111-148, 124 Stat. 119 (Mar. 23, 2010), as amended by the Health Care and Education Reconciliation Act of 2010, Public Law 111-152, 124 Stat. 1029 (Mar. 30, 2010); and the FAA Extension, Safety, and Security Act of 2016, Public Law 114-190, 130 Stat. 615 (July 15, 2016), 8 CFR Part 213a (Affidavits of Support on Behalf of Immigrants).

PURPOSE(S) OF THE SYSTEM:

The purpose of this system is to provide a fee-based service that assists Federal, state, tribal, and local government agencies, benefit-granting agencies, private entities, institutions, and licensing bureaus for any legally mandated purpose in accordance with an authorizing statute to confirm immigration and naturalized and certain derived citizen status information, and to otherwise efficiently administer their programs, to the extent that such disclosure is necessary to enable these agencies and entities to make decisions related to (1) determining eligibility for a Federal, state, tribal, or local public benefit; (2) issuing a license or grant; (3) issuing a government credential; (4) conducting a background investigation; or (5) any other lawful purpose. This system is also used for USCIS bond management purposes under sec. 213 of the Immigration and Nationality Act.

CATEGORIES OF INDIVIDUALS COVERED BY THE SYSTEM:

Categories of individuals covered by this system include: (1) Individuals who have filed, for themselves or on the behalf of others, applications or other requests for Federal, state, local or tribal licenses or benefits; (2) individuals who have been granted naturalized or derived U.S. citizenship; (3) individuals who have applied for or received other immigration benefits pursuant to 8 U.S.C. 1103 et seq. or other applicable law; (4) sponsors ² and household members listed on the Form I-864 or I-864EZ, Affidavit of Support Under Section 213A of the Act or Form I-864A, Contract Between Sponsor and Household Member; (5) individuals subject to certain background investigations; (6) individuals accessing SAVE Case Check; (7) users and administrators who access the system to facilitate citizenship and immigration status verification; and (8) other individuals whose information is verified with SAVE pursuant to a SAVE Memorandum of Agreement or Computer Matching Agreement.

² All references to “sponsor” or “sponsors” include sponsors, joint sponsors, and substitute sponsors, as defined in the regulations at 8 CFR part 213a.

CATEGORIES OF RECORDS IN THE SYSTEM:

Information collected from the benefit applicant by the user agency to facilitate citizenship and immigration status verification may include the following:

• Full Name;

• Date of birth;

• Citizenship or nationality;

• Country of birth;

• Alien Number (A-Number);

• Social Security number (SSN) (in very limited circumstances using the Form G-845, Document Verification Request);

• Receipt number;

• Admission number (I-94 number);

• User Agency Case number;

• Agency DUNS number;

• Visa number;

• DHS Document type;

• DHS Document Expiration date;

• Government-issued identification (e.g., passport):

○ Document type;

○ Country of issuance (COI);

○ Document number;

○ Expiration date; and

○ Benefit requested (e.g., unemployment insurance, educational assistance, driver license).

• Copies of original immigration documents;

• U.S. Immigration and Custom Enforcement (ICE) Student and Exchange Visitor Identification System (SEVIS) ID number; and

• Other immigration number (e.g., Employment Authorization Document card number, naturalization number, citizenship certificate number).

Information collected from agency user who accesses the system to facilitate citizenship and immigration status verification may include the following:

• Agency name;

• Address;

• Names of Agency Point(s) of Contact;

• Title of Agency Point(s) of Contact;

• Contact telephone number;

• Fax number;

• Email address;

• User ID; and

• Type of license/benefit(s) the agency issues (e.g., Unemployment Insurance, Educational Assistance, Driver Licensing, and Social Security Enumeration).

System-generated responses as a result of the SAVE verification process may include:

• Verification Case Number; and

• SAVE response.

Information collected from the benefit-granting agency about actions that an agency adjudicating Federal means-tested public benefits takes to deem sponsor income as part of applicant income for purposes of Federal means-tested benefits eligibility and to seek reimbursement from sponsors for the value of benefits provided to sponsored applicants may include:

• Whether the benefit-granting agency approved or denied the application for the means-tested public benefit;

• If the benefit-granting agency denied the application, whether the denial was based upon the information that SAVE provided in its response to the citizenship and immigration status verification request from the benefit-granting agency;

• Whether the benefit-granting agency deemed sponsor/household member income and, if not, the exception or reason for not doing so;

• Whether the benefit-granting agency sent the sponsor a reimbursement request letter (yes/no);

• Whether the sponsor complied with his or her reimbursement obligation; and

• Whether the benefit-granting agency conducted a collection action or other proceeding if the sponsor did not comply with his or her reimbursement obligation (yes/no and if yes, the status, court or forum, and docket or matter number).

Individual information that may be used by SAVE to verify citizenship and immigration status and provide a SAVE response includes:

• Full Name;

• Date of birth;

• Country of birth;

• A-Number;

• SSN;

• Photograph;

• Government-issued identification (e.g., foreign passport):

○ Document type;

○ Country of issuance (COI);

○ Document number; and

○ Expiration date.

• Visa number;

• Form numbers (e.g., Form I-551, Lawful Permanent Resident Card, Form I-766, Employment Authorization Document);

• Other unique identifying numbers (e.g., SEVIS Identification Number (SEVIS ID number), Admission number (I-94 number));

• Entry/Departure date;

• Port of entry;

• Alien Status Change date;

• Naturalization date;

• Date admitted until;

• Country of citizenship;

• Document Grant date;

• Document Receipt number;

• Codes (e.g., class of admission, file control office, provision of law cited for employment authorization);

• Employment Authorization Document (EAD) history;

• Beneficiary information (e.g., Full Name, A-Number, Date of birth, Country of birth, SSN);

• Petitioner information (e.g., Full Name, A-Number, SSN, Individual Taxpayer Identification Number, Naturalization Certificate number);

• Sponsor(s) and household member(s) information (e.g., Full Name, Address, SSN);

• Spouse information (e.g., Full Name, A-Number, Date of birth, Country of birth, Country of citizenship, Class of admission, Date of admission, Receipt number, Phone number, Marriage date and location, Naturalization date and location);

• Children information (e.g., Full Name, A-Number, Date of birth, Country of birth, Class of admission);

• Employer information (e.g., Full Name, Address, Supervisor's name, Supervisor's Phone number); and

• Individuals associated with background checks information (e.g., Full Name, A-Number, Date of birth, Country of birth).

Case history information may include:

• Alert(s);

• Case summary comments;

• Case category;

• Date of encounter;

• Encounter information;

• Custody actions and decisions;

• Case actions and decisions;

• Bonds;

• Photograph;

• Asylum applicant receipt date;

• Airline and flight number;

• Country of residence;

• City (e.g., where boarded, where visa was issued);

• Date visa issued;

• Address in United States;

• Nationality;

• Decision memoranda; Investigatory reports and materials compiled for the purpose of enforcing immigration laws;

• Exhibits;

• Transcripts; and

• Other case-related papers concerning aliens, alleged aliens, or lawful permanent residents brought into the administrative adjudication process.

RECORD SOURCE CATEGORIES:

Records are obtained from several sources including: (A) Agencies and entities seeking to determine immigration or naturalized or derived citizenship status; (B) Individuals seeking public licenses, benefits, or credentials; (C) Other DHS components assisting with enrollment and system maintenance processes; (D) Information created by SAVE; and (E) Information collected from USCIS, DHS, and other Federal agency systems of records:

• DHS/USCIS/ICE/CBP-001 Alien File, Index, and National File Tracking System of Records, September 18, 2017 (82 FR 43556);

• DHS/USCIS-007 Benefits Information System, October 10, 2019 (84 FR 54622);

• DHS/USCIS-010 Asylum Information and Pre-Screening System of Records, November 30, 2015 (80 FR 74781);

• DHS/USCIS-018 Immigration Biometric and Background Check (IBBC) Records System of Records, July 31, 2018 (83 FR 36950);

• DHS/CBP-005 Advance Passenger Information System (APIS), March 13, 2015 (80 FR 13407);

• DHS/CBP-006 Automated Targeting System, May 22, 2012 (77 FR 30297);

• DHS/CBP-007 CBP Border Crossing Information (BCI), December 13, 2016 (81 FR 89957);

• DHS/CBP-011 U.S. Customs and Border Protection TECS, December 19, 2008 (73 FR 77778);

• DHS/CBP-016 Nonimmigrant Information System, March 13, 2015 (80 FR 13398);

• DHS/CBP-021 Arrival and Departure Information System (ADIS), November 18, 2015 (80 FR 72081);

• DHS/ICE-001 Student and Exchange Visitor Information System, January 5, 2010 (75 FR 412);

• DHS/ICE-011 Criminal Arrest Records and Immigration Enforcement Records (CARIER) System of Records, October 19, 2016 (81 FR 72080);

• DHS/ALL-003 Department of Homeland Security General Training Records, November 25, 2008 (73 FR 71656);

• DHS/ALL-016 Correspondence Records, September 26, 2018 (83 FR 48645);

• JUSTICE/EOIR-001 Records and Management Information System, May 11, 2004 (69 FR 26179); including routine use updates in 82 FR 24147 (May 25, 2017);

• STATE-05 Overseas Citizens Services Records and Other Overseas Records, September 8, 2016 (81 FR 62235);

• STATE-26 Passport Records, March 24, 2015 (80 FR 15653); and

• STATE-39 Visa Records, June 15, 2018 (83 FR 28062).

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other Federal agencies conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another Federal agency or Federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate Federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To approved Federal, state, tribal, and local government agencies for any legally mandated purpose in accordance with their authorizing statute or law and when an approved Memorandum of Agreement (MOA) or Computer Matching Agreement (CMA) is in place between DHS and the entity.

J. To a Federal, state, tribal, or local government agency that oversees or administers Federal means-tested public benefits for purposes of seeking reimbursement from sponsors for the value of benefits provided to sponsored applicants, as well as reporting on overall sponsor deeming and agency reimbursement efforts to appropriate administrative and oversight agencies.

K. To airport operators to determine the eligibility of individuals seeking unescorted access to any Security Identification Display Area of an airport, as required by the FAA Extension, Safety, and Security Act of 2016.

L. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS/USCIS stores records in this system electronically or on paper in secure facilities in a locked drawer behind a locked door. The records may be stored on magnetic disc, tape, and digital media.

POLICIES AND PRACTICES FOR RETRIEVAL OF RECORDS:

DHS/USCIS retrieves records by name of applicant or other unique identifier to include: Verification Case Number, A-Number, I-94 Number, Social Security number, Passport number, Visa number, SEVIS ID number, or by the submitting agency name.

POLICIES AND PRACTICES FOR RETENTION AND DISPOSAL OF RECORDS:

SAVE records are covered by NARA-approved records retention and disposal schedule, N1-566-08-07. Records collected in the process of enrolling in SAVE and in verifying citizenship or immigration status are stored and retained in SAVE for ten (10) years from the date of the completion of verification. However, if the records are part of an ongoing investigation, they will be retained until completion of the investigation and pursuant to the records retention schedule associated with the investigation. This initial 10-year period is based on the statute of limitations for most types of misuse or fraud possible using SAVE (under 18 U.S.C. 3291, the statute of limitations for false statements or misuse regarding passports, citizenship, or naturalization documents).

ADMINISTRATIVE, TECHNICAL, AND PHYSICAL SAFEGUARDS:

DHS/USCIS safeguards records in this system according to applicable rules and policies, including all applicable DHS automated systems security and access policies. USCIS has imposed strict controls to minimize the risk of compromising the information that is being stored. Access to the computer system containing the records in this system is limited to those individuals who have a need to know the information for the performance of their official duties and who have appropriate clearances or permissions.

RECORD ACCESS PROCEDURES:

Individuals seeking access to and notification of any record contained in this system of records, or seeking to contest its content, may submit a request in writing to the Chief Privacy Officer and to the USCIS FOIA/Privacy Act Officer whose contact information can be found at http://www.dhs.gov/foia under “Contacts Information.” If an individual believes more than one component maintains Privacy Act records concerning him or her, the individual may submit the request to the Chief Privacy Officer and Chief Freedom of Information Act Officer, Department of Homeland Security, Washington, DC 20528-0655. Even if neither the Privacy Act nor the Judicial Redress Act (JRA) provide a right of access, certain records about him or her may be available under the Freedom of Information Act.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. While no specific form is required, an individual may obtain forms for this purpose from the Chief Privacy Officer and Chief Freedom of Information Act Officer, http://www.dhs.gov/foia or 1-866-431-0486. In addition, the individual should:

• Explain why the individual believes the Department would have information on him/her;

• Identify which component(s) of the Department the individual believes may have the information about him/her;

• Specify when the individual believes the records would have been created; and

• Provide any other information that will help the FOIA staff determine which DHS component agency may have responsive records;

If an individual's request is seeking records pertaining to another living individual, the first individual must include a statement from the second individual certifying his/her agreement for the first individual to access his/her records.

Without the above information, the component(s) may not be able to conduct an effective search, and the individual's request may be denied due to lack of specificity or lack of compliance with applicable regulations.

CONTESTING RECORD PROCEDURES:

For records covered by the Privacy Act or covered JRA records, see “Record Access Procedures” above. For records not covered by the Privacy Act or Judicial Redress Act, individuals may still amend their records at a USCIS Field Office by contacting the USCIS Contact Center at 1-800-375-5283 to request an appointment.

NOTIFICATION PROCEDURES:

See “Record Access Procedures.”

EXEMPTIONS PROMULGATED FOR THE SYSTEM:

None. However, when this system receives a record from another system exempted in that source system under 5 U.S.C. 552a, DHS will claim the same exemptions for those records that are claimed for the original primary systems of records from which they originated.

HISTORY:

81 FR 78619 (November 8, 2016); 76 FR 183 (September 21, 2011); 73 FR 75445 (December 11, 2008); 73 FR 10793 (February 28, 2008); 72 FR 17569 (April 9, 2007); 67 FR 64134 (October 17, 2002); and 66 FR 174 (September 7, 2001).

Constantina Kozanas,
Chief Privacy Officer, Department of Homeland Security.

[FR Doc. 2020-11390 Filed 5-26-20; 8:45 am]

BILLING CODE 9111-97-P